DEPARTMENT OF COMMERCE

International Trade Administration

[A-570-918]

Steel Wire Garment Hangers From the People's Republic of China: Antidumping Duty Administrative Review, 2010-2011

AGENCY: Import Administration, International Trade Administration, Department of Commerce.

SUMMARY: The Department of Commerce (“the Department”) is conducting the third administrative review of steel wire garment hangers from the People's Republic of China (“PRC”) for the period October 1, 2010, through September 30, 2011. The Department has preliminarily determined that Shanghai Wells Hanger Co., Ltd., Hong Kong Wells Ltd., (USA), and Hong Kong Wells Ltd.,¹ did not sell subject merchandise in the United States at prices below normal value (“NV”).

¹ The Department previously found that Shanghai Wells Hanger Co., Ltd. (“Shanghai Wells”), Hong Kong Wells Ltd. (“HK Wells”) and Hong Kong Wells Ltd. (USA) (“Wells USA”) are affiliated and that Shanghai Wells and HK Wells comprise a single entity (collectively, “Shanghai Wells Group”). Because there were no changes in this review, we continue to find Shanghai Wells, HK Wells, and USA Wells are affiliated and that Shanghai Wells and HK Wells comprise a single entity. See Steel Wire Garment Hangers From the People's Republic of China: Preliminary Results and Preliminary Rescission, in Part, of the First Antidumping Duty Administrative Review, 75 FR 68758, 68761 (November 9, 2010), unchanged in First Administrative Review of Steel Wire Garment Hangers From the People's Republic of China: Final Results and Final Partial Rescission of Antidumping Duty Administrative Review, 76 FR 27994, 27996 (May 13, 2011).

DATES: Effective November 8, 2012.

FOR FURTHER INFORMATION CONTACT: Kabir Archuletta, AD/CVD Operations, Office 9, Import Administration, International Trade Administration, Department of Commerce, 14th Street and Constitution Avenue NW, Washington, DC 20230; telephone: (202) 482-2593.

SUPPLEMENTARY INFORMATION:

Scope of the Order

The merchandise that is subject to the order is steel wire garment hangers. The products subject to the order are currently classified under U.S. Harmonized Tariff Schedule (“HTSUS”) subheadings 7326.20.0020, 7323.99.9060, and 7323.99.9080. Although the HTSUS subheadings are provided for convenience and customs purposes, the written description of the merchandise remains dispositive.²

² See Notice of Antidumping Duty Order: Steel Wire Garment Hangers from the People's Republic of China, 73 FR 58111 (October 6, 2008).

Withdrawal of Requests for Review

On February 28, 2012, M&B Metal Products Co., Inc (“Petitioner”), withdrew its request for an administrative review of 52 of the 59 companies under review.³ On July 11, 2012, the Department published a notice of rescission in the Federal Register for those companies for which the request for review was withdrawn and which also had a separate rate from a previous segment of this proceeding.⁴ The Department stated that it would address the disposition of the remaining withdrawn companies that do not have a separate rate in the preliminary results of this review.⁵

³ See Letter from Petitioner to the Secretary of Commerce “Third Administrative Review of Steel Wire Garment Hangers from China—Petitioner's Withdrawal of Review Requests for Specific Companies” (February 28, 2012).

⁴ See Steel Wire Garment Hangers From the People's Republic of China: Partial Rescission of Antidumping Duty Administrative Review, 77 FR 40853, 40854 (July 11, 2012).

⁵ See id. at 77 FR 40854 n.5.

The deadline to file a separate rate application, separate rate certification, or a notification of no sales, exports or entries, is 60 days after the initiation of the administrative review,⁶ which in this case was January 29, 2012. Therefore, as of January 30, 2012, the remaining companies under review that did not demonstrate eligibility for a separate rate effectively became part of the PRC-wide entity. Accordingly, while the requests for review of those companies were withdrawn by Petitioner on February 28, 2012, those withdrawn companies remain under review as part of the PRC-wide entity, and the Department will make a determination with respect to the PRC-wide entity in these preliminary results and, ultimately, the final results.⁷

⁶ See Initiation of Antidumping and Countervailing Duty Administrative Reviews and Request for Revocation In Part, 76 FR 74041, 74041 (November 30, 2011).

⁷ The following companies are considered part of the PRC-wide entity for these preliminary results: Brightwell (Hong Kong) Enterprise Ltd.; Delmar International (China Inc.; Hangzhou Chenyang Plastic Dipping Co., Ltd.; Hezhou City Yaolong Trade Co Ltd; Jiaxing Boyi Medical Device Co. Ltd.; Jingdezhen Honghe Im. & Ex. Trade Co. Ltd.; Kingtex Imp & Exp Co., Ltd.; Mao's Clothes Hangers Co., Ltd.; Ningbo Beilun Huafa Metal Products; Quanzhou Xiongxin Trade Co., Ltd.; Quyky Yanglei International Co., Ltd.; Shaan Xi Succeed Tradeing Co., Ltd.; Shandong Autjinrong Found-Assemble Co., Ltd.; Shanghai Almex Co., Ltd.; Shanghai China Light Industry International; Shanghai Jinda Imp & Exp Inc.; Shanghai M2M Imp. Exp. Co., Ltd.; Shanghai Mosta Wath & Clock Imp. Exp.; Shanghai Ruishan Metal Products Co., Ltd.; Shanghai Sagacity International; Shanghai Sanmao Import & Export; Shanghai Shengsing Enterprise Co.; Shanghai Textile Raw Materials; Shanghai Textile United Co., Ltd.; Shanghai Yangfan Industrial Co., Ltd.; Shanghai Zonghui Int Trade Co., Ltd.; Shaoxing Guochao Metallic Products Co., Ltd.; Shaoxing Kinglaw Metal Products Co., Ltd.; Shaoxing Leiluo Metal Manufactured; Shaoxing Meideli Metal Manufactured Co., Ltd.; Shenzhen SED Industry Co., Ltd., a/k/a Shenzhen SED Electronics Co.; Suzhou Daoyuan Import & Export Co., Ltd.; Suzhou Hengsheng Import & Export Co., Ltd.; Wesken International (Kunshan) Co., Ltd.; Winwell Industrial Ltd.; Yiwu An'tai Imp. Exp. Co., Ltd.; Yiwu Ao-si Metal Products Co., Ltd.; Zhejiang Jiashan Rigging Industry Co., Ltd.; Zhejiang Perfect Arts & Crafts Co., Ltd.; Zhejiang Tatzhou Hongda Metal Products Co., Ltd. (a/k/a Taizhou Hongda Metal Materials Co., Ltd.); Zhejiang Willing Foreign Trading Co. Ltd.; and Zhuocheng Plastic Co., Ltd. Petitioner also withdrew its requests for review of Angang Clothes Rack Manufacture Co. (“Angang”) and Laidlaw Company, LLC (“Laidlaw”), neither of which are producers/exporters located in the PRC. However, if these preliminary results are adopted in our final results, any of Angang or Laidlaw's PRC-origin exports of subject merchandise made during the POR shall be liquidated at the PRC-wide rate.

Methodology

The Department is conducting this review in accordance with section 751(a)(1)(A) of the Tariff Act of 1930, as amended (“the Act”). Constructed export prices and export prices have been calculated in accordance with section 772 of the Act. Because the PRC is a nonmarket economy within the meaning of section 771(18) of the Act, normal value has been calculated in accordance with section 773(c). Specifically, the Shanghai Wells Group's factors of production have been valued using Philippine prices, a country that is economically comparable to the PRC and that is a significant producer of comparable merchandise.

For a full description of the methodology underlying our conclusions, please see the Preliminary Decision Memorandum.⁸ The Preliminary Decision Memorandum is a public document and is on file electronically via Import Administration's Antidumping and Countervailing Duty Centralized Electronic Service System (“IA ACCESS”). IA ACCESS is available to registered users at http://iaaccess.trade.gov and in the Central Records Unit (“CRU”), room 7046 of the main Department of Commerce building. In addition, a complete version of the Preliminary Decision Memorandum can be accessed directly on the Internet at http://www.trade.gov/ia/. The signed Preliminary Decision Memorandum and the electronic versions of the Preliminary Decision Memorandum are identical in content.

⁸ See “Decision Memorandum for Preliminary Results for the Antidumping Duty Administrative Review of Steel Wire Garment Hangers from the People's Republic of China,” (“Preliminary Decision Memorandum”) from Christian Marsh, Deputy Assistant Secretary for Antidumping and Countervailing Duty Operations, to Paul Piquado, Assistant Secretary for Import Administration, dated concurrently with these results and hereby adopted by this notice.

Preliminary Results of Review

The Department determines that the following preliminary dumping margins exist for the period October 1, 2010, through September 30, 2011:

Manufacturer/Exporter | Weighted-average dumping margin (percent)
Shanghai Wells Group ⁹ | 0.00
PRC-Wide Entity | 187.25
⁹ The Shanghai Wells Group consists of Shanghai Wells Hanger Co., Ltd., and Hong Kong Wells Ltd., (USA).

Disclosure and Public Comment

The Department will disclose the calculations used in our analysis to parties in this review within five days of the date of publication of this notice.¹⁰ Interested parties are invited to comment on the preliminary results of this review. The Department will consider case briefs filed by interested parties within 30 days after the date of publication of this notice in the Federal Register.¹¹ Interested parties may file rebuttal briefs, limited to issues raised in the case briefs.¹² The Department will consider rebuttal briefs filed not later than five days after the time limit for filing case briefs.¹³ Parties who submit arguments are requested to submit with each argument a statement of the issue, a brief summary of the argument, and a table of authorities cited.¹⁴

¹⁰ See 19 CFR 351.224(b).

¹¹ See 19 CFR 351.309(c)(1)(ii).

¹² See 19 CFR 351.309(d)(1)-(2).

¹³ See id.

¹⁴ See 19 CFR 351.309(c)(2), (d)(2).

Interested parties, who wish to request a hearing, or to participate if one is requested, must submit a written request to the Assistant Secretary for Import Administration, U.S. Department of Commerce, filed electronically using IA ACCESS. An electronically filed document must be received successfully in its entirety by the Department's electronic records system, IA ACCESS, by 5 p.m. Eastern Time within 30 days after the date of publication of this notice.¹⁵ Requests should contain the party's name, address, and telephone number; the number of participants; and a list of the issues to be discussed.¹⁶ Issues raised in the hearing will be limited to those raised in the respective case briefs. If a request for a hearing is made, the Department will inform parties of the scheduled date for the hearing which will be held at the U.S. Department of Commerce, 14th Street and Constitution Avenue NW., Washington, DC 20230, at a time and location to be determined. Parties should confirm by telephone the date, time, and location of the hearing.

¹⁵ See 19 CFR 351.310(c).

¹⁶ See id.

Unless the deadline is extended pursuant to section 751(a)(3)(A) of the Act, the Department intends to issue the final results of this administrative review, including the results of our analysis of issues raised in the written comments, within 120 days of publication of these preliminary results in the Federal Register, pursuant to section 751(a)(3)(A) of the Act.

Deadline for Submission of Publicly Available Surrogate Value Information

In accordance with 19 CFR 351.301(c)(3)(ii), for the final results of this administrative review, interested parties may submit publicly available information to value factors of production (“FOPs”) within 20 days after the date of publication of these preliminary results. Interested parties must provide the Department with supporting documentation for the publicly available information to value each FOP. Additionally, in accordance with 19 CFR 351.301(c)(1), for the final results of this administrative review, interested parties may submit factual information to rebut, clarify, or correct factual information submitted by an interested party less than ten days before, on, or after, the applicable deadline for submission of such factual information. However, the Department notes that 19 CFR 351.301(c)(1) permits new information only insofar as it rebuts, clarifies, or corrects information recently placed on the record. The Department generally cannot accept the submission of additional, previously absent-from-the-record alternative surrogate value information pursuant to 19 CFR 351.301(c)(1).¹⁷

¹⁷ See Glycine From the People's Republic of China: Final Results of Antidumping Duty Administrative Review and Final Rescission, in Part, 72 FR 58809 (October 17, 2007) and accompanying Issues and Decision Memorandum at Comment 2.

Assessment Rates

Upon issuance of the final results, the Department will determine, and U.S. Customs and Border Protection (“CBP”) shall assess, antidumping duties on all appropriate entries covered by this review.¹⁸ The Department intends to issue assessment instructions to CBP 15 days after the publication date of the final results of this review. In these preliminary results, the Department applied the assessment rate calculation method adopted in Final Modification for Reviews, i.e., on the basis of monthly average-to-average comparisons using only the transactions associated with that importer with offsets being provided for non-dumped comparisons.¹⁹

¹⁸ See 19 CFR 351.212(b).

¹⁹ See Antidumping Proceeding: Calculation of the Weighted-Average Dumping Margin and Assessment Rate in Certain Antidumping Proceedings; Final Modification, 77 FR 8101, 8103 (February 14, 2012) (“Final Modification for Reviews”).

Where the respondent has reported reliable entered values, we calculated importer (or customer)-specific ad valorem rates by aggregating the dumping margins calculated for all U.S. sales to each importer (or customer) and dividing this amount by the total entered value of the sales to each importer (or customer).²⁰ Where the Department calculated a weighted-average dumping margin by dividing the total amount of dumping for reviewed sales to that party by the total sales quantity associated with those transactions, the Department will direct CBP to assess importer-specific assessment rates based on the resulting per-unit rates.²¹ Where an importer- (or customer-) specific ad valorem or per-unit rate is greater than de minimis, the Department will instruct CBP to collect the appropriate duties at the time of liquidation.²² Where an importer- (or customer-) specific ad valorem or per-unit rate is zero or de minimis, the Department will instruct CBP to liquidate appropriate entries without regard to antidumping duties.²³

²⁰ See 19 CFR 351.212(b)(1).

²¹ See id.

²² See id.

²³ See 19 CFR 351.106(c)(2).

Cash Deposit Requirements

The following cash deposit requirements will be effective upon publication of the final results of this administrative review for all shipments of the subject merchandise entered, or withdrawn from warehouse, for consumption on or after the publication date, as provided by sections 751(a)(2)(C) of the Act: (1) For the exporters listed above, the cash deposit rate will be established in the final results of this review (except, if the rate is zero or de minimis, then no cash deposit will be required); (2) for previously investigated or reviewed PRC and non-PRC exporters not listed above that received a separate rate in a prior segment of this proceeding, the cash deposit rate will continue to be the exporter-specific rate published for the most recent period; (3) for all PRC exporters of subject merchandise that have not been found to be entitled to a separate rate, the cash deposit rate will be the PRC-wide rate of 187.25 percent; and (4) for all non-PRC exporters of subject merchandise which have not received their own rate, the cash deposit rate will be the rate applicable to the PRC exporter that supplied that non-PRC exporter. These deposit requirements, when imposed, shall remain in effect until further notice.

Notification to Importers

This notice also serves as a preliminary reminder to importers of their responsibility under 19 CFR 351.402(f)(2) to file a certificate regarding the reimbursement of antidumping duties prior to liquidation of the relevant entries during this review period. Failure to comply with this requirement could result in the Department's presumption that reimbursement of antidumping duties occurred and the subsequent assessment of double antidumping duties.

This determination is issued and published in accordance with sections 751(a)(1) and 777(i)(1) of the Act and 19 CFR 351.221(b)(4).

Dated: November 1, 2012.
Paul Piquado,
Assistant Secretary for Import Administration.

[FR Doc. 2012-27337 Filed 11-7-12; 8:45 am]

BILLING CODE 3510-DS-P